DEPARTMENT OF THE TREASURY

Departmental Offices Privacy Act of 1974; System of Records

AGENCY: Departmental Offices, Treasury.

ACTION: Notice of Alteration to a Privacy Act System of Records.

SUMMARY: The Department is altering its system of records, Treasury/DO .203—Public Transportation Incentive Program Records.

DATES: Comments must be received no later than February 15, 2001. The proposed system of records will be effective February 26, 2001, unless the Department receives comments that would result in a contrary determination.

ADDRESSES: Comments should be sent to Disclosure Services, Department of the Treasury, 1500 Pennsylvania Ave., NW., Washington DC, 20220.

FOR FURTHER INFORMATION CONTACT: Les Smith, Program Manager, Facilities Management Division, (202) 622-0989, fax (202) 622-5334.

SUPPLEMENTARY INFORMATION: The Department is altering its system of records notice pertaining to the public transportation incentive program to bring its format into conformance with the other Treasury-wide systems of records notices by adding the following Treasury bureaus to the notice: Bureau of Alcohol, Tobacco and Firearms (ATF); Office of the Comptroller of the Currency (OCC); United States Customs Service (CS); Federal Law Enforcement Training Center (FLETC); Internal Revenue Service (IRS); United States Secret Service (USSS); and Office of Thrift Supervision (OTS). The system location is revised by listing each bureau under “System Location.”

The “System manager(s)” is revised to identify the official responsible for the program at each bureau. The “Categories of records in the system” has been expanded to include records relating to the incentives authorized under the Federal Workforce Transportation Program. The “Purpose(s)” statement and the “Notification procedures” are also being revised. Under “Authority for maintenance of the system,” new authority citations are being added as needed by individual bureaus. Three new routine uses (routine uses 7, 8 and 9) are being added to the system notice and routine uses (2) and (6) are being amended. The entry under “Record source categories” is also being revised.

The records are used to administer the public transportation incentive or subsidy programs provided by the bureaus for eligible employees. The notice for the system of records was last published in its entirety on December 17, 1998, at 63 FR 69737.

The altered system of records report, as required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated February 8, 1996.

The system of records, “Public Transportation Incentive Program Records-Treasury/DO,” is published in its entirety below.

Dated: January 3, 2001.
W. Earl Wright, Jr.,
Chief Management and Administrative Programs Officer.

System name:

Public Transportation Incentive Program Records-Treasury/DO.

System location:

Department of the Treasury, 1500 Pennsylvania Avenue, NW., Washington, DC 20220. The locations at which the system is maintained by Treasury bureaus and their associated field offices are:

1. a. Departmental Offices (DO): 1500 Pennsylvania Ave., NW, Washington, DC 20220.

b. The Office of Inspector General (OIG): 740 15th Street, NW, Washington, DC 20220.

2. Bureau of Alcohol, Tobacco and Firearms (ATF): 650 Massachusetts Avenue, NW, Washington, DC 20226.

3. Office of the Comptroller of the Currency (OCC): 250 E Street, SW, Washington, DC 20219-0001.

4. United States Customs Service (CS): 1300 Pennsylvania Avenue, NW, Washington DC 20229.

5. Bureau of Engraving and Printing (BEP): 14th & C Streets, SW, Washington, DC 20228.

6. Federal Law Enforcement Training Center (FLETC): Glynco, Ga. 31524.

7. Financial Management Service (FMS): 401 14th Street, SW, Washington, DC 20227.

8. Internal Revenue Service (IRS): 1111 Constitution Avenue, NW, Washington, DC 20224.

9. United States Mint (MINT): 801 9th St. NW, Washington, DC 20220.

10. Bureau of the Public Debt (BPD): 200 Third Street, Parkersburg, WV 26101.

11. United States Secret Service (USSS): 950 H Street, NW, Washington, DC 20001.

12. Office of Thrift Supervision (OTS): 1700 G Street, NW, Washington, DC 20552.

Categories of individuals covered by the system:

Employees who have applied for or who participate in the Public Transportation Incentive Program.

Categories of records in the system:

(1) Public Transportation Incentive Program application form containing the participant's name, last four digits of the social security number, place of residence, office address, office telephone, grade level, duty hours, previous method of transportation, costs of transportation, and the type of fare incentive requested. Incentives authorized under the Federal Workforce Transportation Program may be included in this program.

(2) Reports submitted to the Department of the Treasury in accordance with Treasury Directive 74-10.

Authority for maintenance of the system:

5 U.S.C. 301, 26 U.S.C. 132(f), and Public Law 101-509.

Purpose(s):

The records are used to administer the public transportation incentive or subsidy programs provided by Treasury bureaus for eligible employees. The system also enables the Department to compare these records with other Federal agencies to ensure that employee transportation programs benefits are not abused.

Routine uses of records maintained in the system, including categories of users and the purposes of such uses:

These records may be used to disclose information to:

(1) Appropriate Federal, state, local, or foreign agencies responsible for investigating or prosecuting the violations of, or for enforcing or implementing, a statute, rule, regulation, order or license;

(2) A court, magistrate, or administrative tribunal in the course of presenting evidence, including disclosures to opposing counsel or witnesses in the course of civil discovery, litigation, or settlement negotiations, in response to a court-ordered subpoena where relevant or potentially relevant to a proceeding, or in connection with criminal law proceedings;

(3) A congressional office in response to an inquiry made at the request of the individual to whom the record pertains;

(4) Unions recognized as exclusive bargaining representatives under the Civil Service Reform Act of 1978, 5 U.S.C. 7111 and/or 7114;

(5) Agencies, contractors, and others to administer Federal personnel or payroll systems, and for debt collection and employment or security investigations;

(6) Other Federal agencies for matching to ensure that employees receiving PTI Program benefits are not listed as a carpool or vanpool participant, the holder of a parking permit; and to prevent the program from being abused;

(7) The Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) The Office of Personnel Management, the Merit Systems Protection Board, the Equal Employment Opportunity Commission, and the Federal Labor Relations Authority or other third parties when mandated or authorized by statute; and

(9) A contractor for the purpose of compiling, organizing, analyzing, programming, or otherwise refining records to accomplish an agency function subject to the same limitations applicable to U.S. Department of Treasury officers and employees under the Privacy Act.

Policies and practices for storing, retrieving, accessing, retaining, and disposing of records in the system

Storage:

Paper records, file folders and/or electronic media.

Retrievability:

By name of individual, badge number or office.

Safeguards:

Access is limited to authorized employees. Files are maintained in locked safes and/or file cabinets. Electronic records are password-protected. During non-work hours, records are stored in locked safes and/or cabinets in locked room.

Retention and Disposal:

Active records are retained indefinitely. Inactive records are held for three years and then destroyed.

System manager(s) and address:

The system managers for the Treasury Bureaus are:

(1) a. Departmental Offices: Assistant Director, Parking, Safety and Farecard Office, Facilities Management Division, 1500 Pennsylvania Ave., NW, Washington, DC 20220.

b. Office of Inspector General: Office of Assistant Inspector for Resources, Office of Administrative Services, Suite 510, 740 15th St. NW., Washington, DC 20220.

(2) ATF: Chief, Safety Program Branch, Administrative Programs Division, Office of Management, 650 Massachusetts Ave., NW., Washington, DC 20226.

(3) BEP: Chief, Office of Administrative Services, Bureau of Engraving and Printing, 14th and C Streets, SW., Washington, DC 20228.

(4) OCC: Building Manager, Building Services, Office of the Comptroller of the Currency, 250 E Street, SW, Washington, DC 20219-0001.

(5) CS: Chief, Headquarters Facilities Service Branch, 1300 Pennsylvania Avenue, NW., Suite 3.2C, Washington, DC 20229.

(6) FLETC: Associate Director for Planning & Resources Federal Law Enforcement Training Center, Glynco, GA 31524

(7) FMS: Director, Facilities Management Division, Financial Management Service, 3700 East West Hwy., Room 144, Hyattsville, MD 20782.

(8) IRS: Official prescribing policies and practices—Chief, National Office, Protective Program Staff, Director, Personnel Policy Division, 2221 S. Clark Street-CP6, Arlington, VA 20224. Officials maintaining the system—Supervisor of local offices where the records reside. (See IRS Appendix A for addresses.)

(9) Mint: Office of Management Services, 801 9th St. NW., Washington, DC 20220.

(10) BPD: Executive Director, Administrative Resources Center, 200 Third Street, Parkersburg, WV 26106.

(11) USSS: Assistant Director, Office of Administration, 950 H Street, NW., Washington DC 20373-5802.

(12) OTS: Director, Planning, Budget and Finance, Office of Thrift Supervision, Department of the Treasury, 1700 G Street, NW., Washington, DC 20552.

Notification procedure:

Individuals seeking notification and access to any record contained in the system of records, or seeking to contest its content, may inquire in accordance with instructions given in the Appendix for each Treasury bureau appearing at 31 CFR Part 1, Subpart C.

Record access procedures:

See “Notification procedure” above.

Contesting record procedures:

See “Notification procedure” above.

Record source categories:

The source of the data are employees who have applied for the transportation incentive, the incentive program managers and other appropriate agency officials, or other Federal agencies.

Exemptions claimed for the system:

None.

[FR Doc. 01-1010 Filed 1-12-01; 8:45 am]

BILLING CODE 4810-25-P